GENERAL SERVICES ADMINISTRATION

40 CFR 1900

41 CFR Chapters 101, 102, 105, 300, 301, 302, and 304

48 CFR Chapter 5

48 CFR 6101 and 6102

Unified Agenda of Federal Regulatory and Deregulatory Actions

AGENCY: General Services Administration (GSA).

ACTION: Semiannual regulatory agenda.

This agenda announces the proposed regulatory actions that GSA plans for the next 12 months and those completed since the fall 2018 edition. This agenda was developed under the guidelines of Executive Orders (E.O.) 12866 “Regulatory Planning and Review,” as amended, Executive Order 13771 “Reducing Regulation and Controlling Regulatory Costs,” and Executive Order 13563 “Improving Regulation and Regulatory Review.” GSA's purpose in publishing this agenda is to allow interested persons an opportunity to participate in the rulemaking process.

This agenda updates the report published on June 24, 2019, and includes regulations expected to be issued and under review over the next 12 months. The next agenda is scheduled to be published in the spring of 2020.

The complete Unified Agenda will be available online at www.reginfo.gov.

Because publication in the Federal Register is mandated for the regulatory flexibility agendas required by the Regulatory Flexibility Act (5 U.S.C. 602), GSA's printed agenda entries include only:

(1) Rules that are in the Agency's regulatory flexibility agenda, in accordance with the Regulatory Flexibility Act, because they are likely to have a significant economic impact on a substantial number of small entities; and

(2) Any rules that the Agency has identified for periodic review under section 610 of the Regulatory Flexibility Act.

Printing of these entries is limited to fields that contain information required by the Regulatory Flexibility Act's Agenda requirements. Additional information on these entries is in the Unified Agenda available online.

FOR FURTHER INFORMATION CONTACT: Lois Mandell, Division Director, Regulatory Secretariat Division, 1800 F Street NW, 2nd Floor, Washington, DC 20405-0001, 202-501-2735.

Dated: July 25, 2019.
Jessica Salmoiraghi,
Associate Administrator, Office of Government-wide Policy.

General Services Administration—Proposed Rule Stage
Sequence No. | Title | Regulation Identifier No.
333 | General Services Acquisition Regulation (GSAR); GSAR Case 2016-G511, Contract Requirements for GSA Information Systems | 3090-AJ84
334 | General Services Acquisition Regulation (GSAR); GSAR Case 2019-G503, Streamlining GSA Commercial Contract Clause Requirements | 3090-AK09
335 | Federal Permitting Improvement Steering Council (FPISC); FPISC Case 2019-001, Adding a New Sector of Covered Projects Under FAST-41 by the Federal Permitting Improvement Steering Council | 3090-AK13

General Services Administration—Final Rule Stage
Sequence No. | Title | Regulation Identifier No.
336 | General Services Administration Acquisition Regulation (GSAR); GSAR Case 2015-G506, Adoption of Construction Project Delivery Method Involving Early Industry Engagement | 3090-AJ64
337 | Federal Permitting Improvement Steering Council (FPISC); FPISC Case 2018-001; Fees for Governance, Oversight, and Processing of Environmental Reviews and Authorizations | 3090-AJ88

General Services Administration—Completed Actions
Sequence No. | Title | Regulation Identifier No.
338 | GSAR Case 2008-G517, Cooperative Purchasing—Acquisition of Security and Law Enforcement Related Goods and Services (Schedule 84) by State and Local Governments Through Federal Supply Schedules | 3090-AI68
339 | General Services Administration Acquisition Regulation (GSAR); GSAR Case 2013-G502, Federal Supply Schedule Contract Administration | 3090-AJ41

GENERAL SERVICES ADMINISTRATION (GSA)

Office of Acquisition Policy

Proposed Rule Stage

333. General Services Acquisition Regulation (GSAR); GSAR Case 2016-G511, Contract Requirements for GSA Information Systems

E.O. 13771 Designation: Other.

Legal Authority: 40 U.S.C. 121(c)

Abstract: The General Services Administration (GSA) is proposing to amend the General Services Administration Acquisition Regulation (GSAR) to streamline and update requirements for contracts that involve GSA information systems. GSA's unique policies on cybersecurity and other information technology requirements have been previously communicated through other means. By incorporating these requirements into the GSAR, the GSAR will provide centralized guidance to ensure consistent application across the organization. Integrating these requirements into the GSAR will also allow industry to provide public comments through the rulemaking process.

GSA's cybersecurity requirements mandate contractors to protect the confidentiality, integrity, and availability of unclassified GSA information and information systems from cybersecurity vulnerabilities, and threats in accordance with the Federal Information Security Modernization Act of 2014 and associated Federal cybersecurity requirements. This rule will require contracting officers to incorporate applicable GSA cybersecurity requirements within the statement of work to ensure compliance with Federal cybersecurity requirements and implement best practices for preventing cyber incidents. These GSA requirements mandate applicable controls and standards (e.g., U.S. National Institute of Standards and Technology, U.S. National Archive and Records Administration Controlled Unclassified Information standards).

Contract requirements for internal information systems, external contractor systems, cloud systems, and mobile systems will be covered by this rule. This rule will also update existing GSAR provision 552.239-70, Information Technology Security Plan and Security Authorization, and GSAR clause 552.239-71, Security Requirements for Unclassified Information Technology Resources, to only require the provision and clause when the contract will involve information or information systems connected to a GSA network.

Timetable:

Action | Date | FR Cite
NPRM | 12/00/19
NPRM Comment Period End | 02/00/20

Regulatory Flexibility Analysis Required: Yes.

Agency Contact: Michael Thompson, Procurement Analyst, General Services Administration, 1800 F Street NW, Washington, DC 20405, Phone: 202 208-1568, Email: michael.thompson@gsa.gov.

RIN: 3090-AJ84

334. • General Services Acquisition Regulation (GSAR); GSAR Case 2019-G503, Streamlining GSA Commercial Contract Clause Requirements

E.O. 13771 Designation: Other.

Legal Authority: 40 U.S.C. 121(c)

Abstract: The General Services Administration (GSA) is proposing to amend the General Services Administration Acquisition Regulation (GSAR) to streamline requirements for GSA commercial contracts. This rule will update GSAR Clauses 552.212-71 and 552.212-72 to remove any requirements that are not necessary by law or Executive Order.

Timetable:

Action | Date | FR Cite
NPRM | 01/00/20 |
NPRM Comment Period End | 03/00/20 |

Regulatory Flexibility Analysis Required: Yes.

Agency Contact: Johnnie McDowell, Procurement Analyst, General Services Administration, 1800 F Street NW, Washington, DC 20405, Phone: 202 718-6112, Email: johnnie.mcdowell@gsa.gov.

RIN: 3090-AK09

Office of Governmentwide Policy

335. • Federal Permitting Improvement Steering Council (FPISC); FPISC Case 2019-001, Adding a New Sector of Covered Projects Under Fast-41 by the Federal Permitting Improvement Steering Council

E.O. 13771 Designation: Regulatory.

Legal Authority: 42 U.S.C. 4370m(6)(A)

Abstract: Fixing America's Surface Transportation Act (FAST-41) is intended to improve the timeliness, predictability, and transparency of the Federal environmental review and authorization process for certain covered infrastructure projects across a broad range of sectors. It does so while upholding the U.S. Government's responsibility to protect public health, welfare, safety, and the environment. While FAST-41 contains a list of sectors whose infrastructure projects are eligible for inclusion, the Act specifically allows for the addition of other sectors as determined by the majority vote of the Federal Permitting Improvement Steering Council (FPISC or the Council). Pursuant to that authority, and consistent with Executive Orders 13807 and 13817, the Council is proposing to include mining as a sector eligible under the definition of a FAST-41 covered project. Similar to other listed sectors, mining activities routinely include construction of a variety of infrastructure projects, such as roads, electricity generation/transmission, pipelines, and wastewater treatment facilities. To continue with the enhanced transparency inherent in FAST-41, the Council is requesting public comment on the addition of mining as a covered sector under the Act. Inclusion of mining as a covered sector will not guarantee that all mining projects will receive the benefits of enhanced coordination under FAST-41. Identical to the treatment of other sectors, individual mining project sponsors will have to be approved by FPISC.

Timetable:

Action | Date | FR Cite
NPRM | 02/00/20
NPRM Comment Period End | 04/00/20

Regulatory Flexibility Analysis Required: Yes.

Agency Contact: Nicholas A. Falvo, Senior Legal Advisor, Federal Permitting Improvement Steering Council, General Services Administration, 1800 F Street NW, Room 5121, Washington, DC 20405, Phone: 202 430-4463, Email: nicholas.falvo@gsa.gov.

RIN: 3090-AK13

GENERAL SERVICES ADMINISTRATION (GSA)

Office of Acquisition Policy

Final Rule Stage

336. General Services Administration Acquisition Regulation (GSAR); GSAR Case 2015-G506, Adoption of Construction Project Delivery Method Involving Early Industry Engagement

E.O. 13771 Designation: Deregulatory.

Legal Authority: 40 U.S.C. 121(c)

Abstract: The General Services Administration (GSA) is amending the General Services Administration Acquisition Regulation (GSAR) to adopt an additional project delivery method for construction, construction manager as constructor (CMc). The current FAR and GSAR lacks detailed coverage differentiating various construction project delivery methods. GSA's policies on CMc have been previously issued through other means. By incorporating CMc into the GSAR and differentiating for various construction methods, the GSAR provides centralized guidance to ensure consistent application of construction project principles across the organization.

Timetable:

Action | Date | FR Cite
NPRM | 11/08/18 | 83 FR 55838
Correction | 11/27/18 | 83 FR 60818
NPRM Comment Period End | 01/07/19 |
Final Rule | 12/00/19 |

Regulatory Flexibility Analysis Required: Yes.

Agency Contact: Christina Mullins, Procurement Analyst, General Services Administration, 1800 F Street NW, Washington, DC 20405, Phone: 202 969-4066, Email: christina.mullins@gsa.gov.

RIN: 3090-AJ64

Office of Governmentwide Policy

337. Federal Permitting Improvement Steering Council (FPISC); FPISC Case 2018-001; Fees for Governance, Oversight, and Processing of Environmental Reviews and Authorizations

E.O. 13771 Designation: Fully or Partially Exempt.

Legal Authority: 42 U.S.C. 4370m-8

Abstract: GSA is amending a final rule to establish a fee structure to reimburse the Federal Permitting Improvement Steering Council and its Office of the Executive Director for reasonable costs incurred in coordinating environmental reviews and authorizations in implementing title 41 of the Fixing America's Surface Transportation Act. GSA will amend this regulation on behalf of the Federal Permitting Improvement Steering Council.

Timetable:

Action | Date | FR Cite
NPRM | 09/04/18 | 83 FR 44846
NPRM Comment Period End | 11/05/18 |
Final Rule | 07/00/20 |

Regulatory Flexibility Analysis Required: Yes.

Agency Contact: Amber Dawn Levofsky, Program Analyst, General Services Administration, 1800 F Street NW, Room 3017, Washington, DC 20405-0001, Phone: 202 969-7298, Email: amber.levofsky@gsa.gov.

RIN: 3090-AJ88

GENERAL SERVICES ADMINISTRATION (GSA)

Completed Actions

338. GSAR Case 2008-G517, Cooperative Purchasing—Acquisition of Security and Law Enforcement Related Goods And Services (Schedule 84) by State and Local Governments Through Federal Supply Schedules

E.O. 13771 Designation: Not subject to, not significant.

Legal Authority: 40 U.S.C. 121(c); 40 U.S.C. 502(c)(1)(B)

Abstract: The General Services Administration (GSA) amended the General Services Administration Acquisition Regulation (GSAR) to implement Public Law 110-248, The Local Preparedness Acquisition Act. The Act authorizes the Administrator of General Services to provide for the use by State or local governments of Federal Supply Schedules of the GSA for alarm and signal systems, facility management systems, firefighting and rescue equipment, law enforcement and security equipment, marine craft and related equipment, special purpose clothing, and related services (as contained in Federal supply classification code group 84 or any amended or subsequent version of that Federal supply classification group).

Completed:

Reason | Date | FR Cite
Final Rule | 04/11/19 | 84 FR 14624
Final Rule Effective | 05/13/19 |

Regulatory Flexibility Analysis Required: Yes.

Agency Contact: Thomas O'Linn, Phone: 202 445-0390, Email: thomas.olinn@gsa.gov.

RIN: 3090-AI68

339. General Services Administration Acquisition Regulation (GSAR); GSAR Case 2013-G502, Federal Supply Schedule Contract Administration

E.O. 13771 Designation: Not subject to, not significant.

Legal Authority: 40 U.S.C. 121(c)

Abstract: The General Services Administration (GSA) amended the General Services Administration Acquisition Regulation (GSAR) to clarify and update the contracting by negotiation GSAR section and incorporate existing Federal Supply Schedule Contracting policies and procedures, and corresponding provisions and clauses.

Completed:

Reason | Date | FR Cite
Final Rule | 04/23/19 | 84 FR 17030
Correction | 05/17/19 | 84 FR 22381
Final Rule Effective | 05/23/19 |

Regulatory Flexibility Analysis Required: Yes.

Agency Contact: Dana L. Bowman, Phone: 202 357-9652, Email: dana.bowman@gsa.gov.

RIN: 3090-AJ41

[FR Doc. 2019-26567 Filed 12-23-19; 8:45 am]

BILLING CODE 6820-14-P